DEPARTMENT OF AGRICULTURE

Animal and Plant Health Inspection Service

9 CFR Part 93

[Docket No. 95-054-4]

Importation of Horses From CEM-Affected Regions

AGENCY: Animal and Plant Health Inspection Service, USDA.

ACTION: Technical amendment.

SUMMARY: We are making a technical amendment to the regulations regarding the importation of horses to restore the State of Florida to the list of States approved to receive mares over 731 days of age from regions affected with contagious equine metritis. The entry for the State of Florida was inadvertently removed from that list in an earlier final rule.

EFFECTIVE DATE: December 27, 2000.

FOR FURTHER INFORMATION CONTACT: Susan Gallagher, Regulatory Coordination Specialist, Regulatory Analysis and Development, Policy and Program Development, APHIS, USDA, 4700 River Road Unit 118, Riverdale, MD 20737-1238; (301) 734-8682.

SUPPLEMENTARY INFORMATION:

Background

The regulations in 9 CFR part 93 (referred to below as the regulations) prohibit or restrict the importation of certain animals into the United States to prevent the introduction of communicable diseases of livestock and poultry. Subpart C—Horses, §§ 93.300 through 93.326 of the regulations, pertains to the importation of horses into the United States.

Note: At the time the final rule referred to in this document was published, the regulations described in the previous paragraph were located in 9 CFR part 92. However, on October 28, 1997, we published in the Federal Register (62 FR 56000-56026, Docket No. 94-106-9) a final rule that redesignated part 92 as part 93. In describing the actions taken in that final rule, we will cross-reference the former part 92 citations with their current locations in part 93.

In a final rule published in the Federal Register on October 7, 1996 (61 FR 52236-52246, Docket No. 95-054-2), and effective November 6, 1996, we amended the regulations regarding the importation of horses from regions affected with contagious equine metritis (CEM) by incorporating new testing and treatment protocols, providing for the use of accredited veterinarians to monitor horses temporarily imported into the United States for competition purposes, and removing the requirements for endometrial cultures and clitoral sinusectomies in mares. As part of that final rule, we moved the lists of States that have been approved to receive mares and stallions over 731 days of age from CEM-affected regions from § 92.304 to § 93.301 (current § 93.301). When we moved those lists, we inadvertently removed the State of Florida from the list in § 92.301(h)(7) (current § 93.301(h)(7)) of States approved to receive mares over 731 days of age from CEM-affected regions.

It was never our intention to remove Florida from that list, and no such change to the list was discussed in the final rule or in the proposed rule that preceded it (61 FR 28073-28085, Docket No. 95-054-1, published June 4, 1996). We are, therefore, amending § 93.301(h)(7) to restore the State of Florida to the list of States approved to receive mares over 731 days of age from CEM-affected regions.

List of Subjects in 9 CFR Part 93

Animal diseases, Imports, Livestock, Poultry and poultry products, Quarantine, Reporting and recordkeeping requirements.

Accordingly, we are amending 9 CFR part 93 as follows:

PART 93—IMPORTATION OF CERTAIN ANIMALS, BIRDS, AND POULTRY, AND CERTAIN ANIMAL, BIRD, AND POULTRY PRODUCTS; REQUIREMENTS FOR MEANS OF CONVEYANCE AND SHIPPING CONTAINERS

1. The authority citation for part 93 continues to read as follows:

Authority: 7 U.S.C. 1622; 19 U.S.C. 1306; 21 U.S.C. 102-105, 111, 114a, 134a, 134b, 134c, 134d, 134f, 135, 136, and 136a; 31 U.S.C. 9701; 7 CFR 2.22, 2.80, and 371.4.

§ 93.301 [Amended]

2. In § 93.301, paragraph (h)(7), the list of States is amended by adding, in alphabetical order, the words “The State of Florida”.

Done in Washington, DC, this 19th day of December 2000.
Craig A. Reed,
Administrator, Animal and Plant Health Inspection Service.

[FR Doc. 00-32895 Filed 12-26-00; 8:45 am]

BILLING CODE 3410-34-U